FEDERAL RESERVE SYSTEM

Proposed Agency Information Collection Activities; Comment Request

AGENCY: Board of Governors of the Federal Reserve System.

SUMMARY: On June 15, 1984, the Office of Management and Budget (OMB) delegated to the Board of Governors of the Federal Reserve System (Board) its approval authority under the Paperwork Reduction Act (PRA), pursuant to 5 CFR 1320.16, to approve of and assign OMB control numbers to collection of information requests and requirements conducted or sponsored by the Board under conditions set forth in 5 CFR part 1320 Appendix A.1. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before February 24, 2014.

ADDRESSES: You may submit comments, identified by FR 1378 or FR 3073, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• Fax: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room MP-500 of the Board's Martin Building (20th and C Streets NW.) between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Federal Reserve Board's public Web site at: http://www.federalreserve.gov/apps/reportforms/review.aspx or may be requested from the agency clearance officer, whose name appears below.

Federal Reserve Board Clearance Officer—Cynthia Ayouch—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start up costs and costs of operation, maintenance, and purchase of services to provide information.

Proposal To Approve Under OMB Delegated Authority the Implementation of the Following Information Collections

1. Report title: Surveys of Consumer and Community Affairs Publications and Resources.

Agency form number: FR 1378.

OMB control number: 7,100—to be assigned.

Frequency: On occasion.

Reporters: Individuals, households, nonprofits, community development organizations, consumer groups, financial institutions and other financial companies offering consumer financial products and services, other for profit companies, state or local agencies, and researchers from academic, government, policy and other institutions.

Estimated annual reporting hours: 2,300 hours.

Estimated average hours per response:

Consumer surveys: quantitative surveys, 0.25 hours; qualitative surveys, 1.5 hours.

Stakeholder surveys: quantitative surveys, 0.25 hours; qualitative surveys, 1.5 hours.

Number of respondents:

Consumer surveys: quantitative surveys, 1,000; qualitative surveys, 50.

Stakeholder surveys: quantitative surveys, 800; qualitative surveys, 50.

General description of report: This information collection is generally authorized under sections 2A and 12A of the Federal Reserve Act. Section 2A requires that the Board of Governors of the Federal Reserve System and the Federal Open Market Committee (FOMC) maintain long run growth of the monetary and credit aggregates commensurate with the economy's long run potential to increase production, so as to promote effectively the goals of maximum employment, stable prices, and moderate long-term interest rates. 12 U.S.C. 225a. In addition, under section 12A of the Federal Reserve Act, the FOMC is required to implement regulations relating to the open market operations conducted by Federal Reserve Banks with a view to accommodating commerce and business and with regard to the regulations' bearing upon the general credit situation of the country. 12 U.S.C. 263. The authority of the Federal Reserve to collect information to carry out the requirements of these provisions is implicit. Accordingly, the Federal Reserve is authorized to collect the information called for by the FR 1378 by sections 2A and 12A of the Federal Reserve Act.

In addition, the Board is responsible for implementing and drafting regulations and interpretations for various consumer protection laws. The information obtained from the FR 1378 may be used in support of the Board's development and implementation of regulatory provisions for these laws. Therefore, depending on the survey questions asked, the FR1378 may be authorized pursuant to the Board's authority under one or more of the following consumer protection statutes:

• Community Reinvestment Act, (12 U.S.C. 2905);

• Competitive Equality Banking Act, (12 U.S.C. 3806);

• Expedited Funds Availability Act, (12 U.S.C. 4008);

• Truth in Lending Act, (15 U.S.C. 1604); ¹

¹ Although the Dodd-Frank Act (DFA) cut back the Board's authority under the Truth in Lending Act, the Board retains rule writing authority for implementing regulations with respect to auto dealers. DFA § 1100A(7).

• Fair Credit Reporting Act, (15 U.S.C. 1681s(e)); ²

² Although the DFA cut back the Board's authority under the Fair Credit Reporting Act, the Board retains rule writing authority for red flags, address changes, and disposal of records. DFA §§ 1002(12)(F) and 1088(a)(2)(D).

• Equal Credit Opportunity Act, (15 U.S.C. 1691b); ³

³ Although the DFA cut back the Board's authority under the Equal Credit Opportunity Act, the Board retains rule writing authority for implementing regulations with respect to auto dealers. DFA § 1085(3).

• Electronic Funds Transfer Act, (15 U.S.C. 1693b & 1693o-2); ⁴

⁴ Although the DFA cut back the Board's authority under the Electronic Fund Transfers Act, the Board retains rule writing authority for interchange fee regulations and authority to implement regulations with respect to auto dealers. DFA §§ 1075 & 1084.

• Gramm-Leach-Bliley Act, (15 U.S.C. 6801(b)); ⁵ and

⁵ Although the DFA cut back the Board's authority under the Gramm-Leach-Bliley Act, the Board maintains the authority to establish appropriate standards for the financial institutions relating to administrative, technical and physical safeguards for certain customer records and information. DFA § 1002(12).

• Flood Disaster Protection Act of 1973, Section 102 (42 U.S.C. 4012a).

Participation in the FR 1378 is voluntary and the information collected on these surveys is not considered confidential. Access to contact information which is considered Personally Identifying Information (PII) is typically necessary to recruit respondents for the consumer and stakeholder surveys in this collection. Any PII used in recruiting respondents for these surveys would be handled in accordance with Board procedures.

Abstract: The Federal Reserve Board would use the FR 1378 surveys to seek input from users or potential users of its publications and resources to understand their interests and needs; to inform decisions concerning content, design, and dissemination strategies; to gauge public awareness of its publications and resources; and to assess the effectiveness of its communications with various respondents.

Qualitative surveys would include data gathering methods such as focus groups and individual interviews. Quantitative surveys would include surveys conducted online or via mobile device, by phone, or by mail, or a combination of these methods. The Federal Reserve may choose to contract with an outside vendor to conduct focus groups, interviews, or surveys, or may choose to collect the data directly. The Federal Reserve may also work with outside parties when appropriate to identify potential respondents (e.g. networks of community groups or researchers) and to collect data.

As the Federal Reserve's publications and resources continue to evolve, the Federal Reserve may seek input from users or potential users of our publications on questions such as:

• Was the content relevant and of value?

• Was the length and nature of the discussion appropriate and useful for this topic?

• How did the reader access the publication or other content—in hard copy distributed at an event, online, or using a mobile device? If online or through a mobile device, was the document printed for reading, read on a tablet or other e-reader, or read on a computer screen?

• Could the Federal Reserve improve the format and appearance of the print or electronic presentation? This could include the readability of type size or of charts and graphs; organization of information; and ease of locating information through indexing, search tools, and links.

• Was the reader able to use the information to inform their work?

The frequency of the surveys and content of the questions would vary as needs arise for feedback on different resources and from different audiences.

2. Report title: Consumer and Stakeholder Surveys.

Agency form number: FR 3073.

OMB control number: 7,100—to be assigned.

Frequency: Quarterly, annually, and on occasion.

Reporters: Individuals, households, community groups, community development organizations, non-profit service providers, faith-based service organizations, public sector agencies, small business owners, health care organizations, food banks, K-12 public and private schools, community colleges, community development financial institutions, credit unions, banks, and other financial institutions and companies offering financial products and services.

Estimated annual reporting hours: 10,700 hours.

Estimated average hours per response:

Consumer surveys: Quantitative surveys (medium), 0.25 hours; Quantitative surveys (large), .40 hours; Qualitative surveys, 1.5 hours.

Stakeholder surveys: Quantitative surveys, 0.25 hours; Qualitative surveys, 1.5 hours.

Number of respondents:

Consumer surveys: Quantitative surveys (medium), 2,500; Quantitative surveys (large), 5,000; Qualitative surveys, 50.

Stakeholder surveys: Quantitative surveys, 1,500; Qualitative surveys, 50.

General description of report: This information collection is generally authorized under sections 2A and 12A of the Federal Reserve Act. Section 2A requires that the Board of Governors of the Federal Reserve System and the FOMC maintain long run growth of the monetary and credit aggregates commensurate with the economy's long run potential to increase production, so as to promote effectively the goals of maximum employment, stable prices, and moderate long-term interest rates. 12 U.S.C. 225a. In addition, under section 12A of the Federal Reserve Act, the FOMC is required to implement regulations relating to the open market operations conducted by Federal Reserve Banks with a view to accommodating commerce and business and with regard to the regulations' bearing upon the general credit situation of the country. 12 U.S.C. 263. The authority of the Federal Reserve to collect information to carry out the requirements of these provisions is implicit. Accordingly, the Federal Reserve is authorized to collect the information called for by the FR 3073 by sections 2A and 12A of the Federal Reserve Act.

The Board is responsible for implementing and drafting regulations and interpretations for various consumer protection laws. The information obtained from the FR 3073 may be used in support of the Board's development and implementation of regulatory provisions for these laws. Therefore, depending on the survey questions asked, the FR 3073 may be authorized pursuant to the Board's authority under one or more of the following consumer protection statutes:

• Community Reinvestment Act, (12 U.S.C. 2905);

• Competitive Equality Banking Act, (12 U.S.C. 3806);

• Expedited Funds Availability Act, (12 U.S.C. 4008);

• Truth in Lending Act, (15 U.S.C. 1604); ⁶

⁶ Although the Dodd-Frank Act (DFA) cut back the Board's authority under the Truth in Lending Act, the Board retains rule writing authority for implementing regulations with respect to auto dealers. DFA § 1100A(7).

• Fair Credit Reporting Act, (15 U.S.C. 1681s(e)); ⁷

⁷ Although the DFA cut back the Board's authority under the Fair Credit Reporting Act, the Board retains rule writing authority for red flags, address changes, and disposal of records. DFA §§ 1002(12)(F) and 1088(a)(2)(D).

• Equal Credit Opportunity Act, (15 U.S.C. 1691b); ⁸

⁸ Although the DFA cut back the Board's authority under the Equal Credit Opportunity Act, the Board retains rule writing authority for implementing regulations with respect to auto dealers. DFA § 1085(3).

• Electronic Funds Transfer Act, (15 U.S.C. 1693b & 1693o-2); ⁹

⁹ Although the DFA cut back the Board's authority under the Electronic Fund Transfers Act, the Board retains rule writing authority for interchange fee regulations and authority to implement regulations with respect to auto dealers. DFA §§ 1075 & 1084.

• Gramm-Leach-Bliley Act, (15 U.S.C. 6801(b)); ¹⁰ and

¹⁰ Although the DFA cut back the Board's authority under the Gramm-Leach-Bliley Act, the Board maintains the authority to establish appropriate standards for the financial institutions relating to administrative, technical and physical safeguards for certain customer records and information. DFA § 1002(12).

• Flood Disaster Protection Act of 1973, Section 102 (42 U.S.C. 4012a).

Additionally, depending upon the survey respondent, the information collection may be authorized under a more specific statute. Specifically, the Board is authorized to collect information from state member banks under section 9 of the Federal Reserve Act (12 U.S.C. 324); from bank holding companies (and their subsidiaries) under section 5(c) of the Bank Holding Company Act (12 U.S.C. 1844(c)); from Edge and agreement corporations under section 25 and 25A of the Federal Reserve Act (12 U.S.C. 602 and 625); and from U.S. branches and agencies of foreign banks under section 7(c)(2) of the International Banking Act of 1978 (12 U.S.C. 3105(c)(2)) and under section 7(a) of the Federal Deposit Insurance Act (12 U.S.C. 1817(a)).

Participation in the FR 3073 is voluntary. The ability of the Federal Reserve to maintain the confidentiality of information provided by respondents to the FR 3073 surveys will have to be determined on a case by case basis depending on the type of information provided for a particular survey. Some of the information collected on the surveys may be protected from Freedom of Information Act (FOIA) disclosure by FOIA exemptions 4 and 6. Exemption 4 protects from disclosure trade secrets and commercial or financial information, while Exemption 6 protects information “the disclosure of which would constitute a clearly unwarranted invasion of personal privacy.” See 5 U.S.C. 552(b)(4) and (6).

Access to contact information which is considered PII is typically necessary to recruit respondents for the consumer and stakeholder surveys in this collection. Any PII used in recruiting respondents for these surveys would be handled in accordance with Board procedures. Outside vendors who conduct consumer surveys under contract with the Board remove PII before providing survey data to the Board. Consumer survey data, whether collected by an outside vendor or by the Board, would be collected for research purposes only and any identifying information on respondents would be removed before any data is publicly released.

Abstract: The Federal Reserve would use the FR 3073 surveys to gather quantitative and qualitative information directly from individual consumers or households (consumer surveys) on consumer finance topics. This collection also would be used to gather quantitative and qualitative information on current and emerging community economic issues from stakeholders (stakeholder surveys). The Federal Reserve would use this collection to inform consumer-focused supervision, research, and policy analysis; implement statutory requirements; and facilitate community development. The surveys in this collection would inform the Federal Reserve's work by identifying emerging risks and providing additional data on the issues that affect the well-being of consumers and communities and the function of the market for financial services.

Topics explored in quantitative and qualitative consumer surveys are likely to vary over time, although some topics may be repeated. Surveys may relate to various aspects of consumer financial knowledge, attitudes, and behavior, and may inform understanding of changes in the markets for consumer financial services, including changes stemming from regulatory or legislative developments as well as from changes in technology and business practices. Some surveys may be needed to address issues of immediate concern, and such issues may not be anticipated in advance. Examples of topics for consumer surveys may include:

• Use of financial products and services;

• Use of technology and various service delivery channels;

• Ability to notice, comprehend, and use disclosures,

• Ability to comprehend terms of credit or account agreements;

• Preferences about the delivery of information (content, format, timing, and method);

• Comprehension of particular deliveries of information (electronic and paper media);

• Abilities to use a particular method of delivery, such as web-based disclosures;

• Sources and incidence of financial stress, and resources for coping with adverse shocks;

• Behaviors related to searching, shopping, and negotiating for credit or asset purchases;

• Financial planning, borrowing, investment, and insurance decisions;

• Financial knowledge, attitudes, and advice-seeking behaviors; and

• Human capital investment decisions and labor market outcomes.

For the quantitative consumer surveys, the Federal Reserve would typically contract with an outside vendor to collect the data.

For surveys administered via an outside vendor, the Federal Reserve would design the survey and draft the survey questions in consultation with the vendor. The questions asked on any given survey would be specific to the particular topic of interest. Some questions may be repeated in subsequent surveys, but others may be asked on a single survey. The firm would be responsible for testing the survey procedures, following the sampling protocol and conducting the survey as specified by the Federal Reserve, preparing data files containing the responses, computing analysis weights, and documenting all survey procedures. Data editing and analysis of the results may be conducted either solely by the Federal Reserve and any research partner or jointly with the firm depending on the needs of the project.

The number of respondents to any given survey would vary depending on the purpose of the survey and the sample size needed to obtain statistically valid results. The Federal Reserve anticipates fielding up to two large surveys each year and four medium (in sample size and survey time length) surveys focused on particular topics for which data needs have arisen.

Qualitative surveys with consumers such as focus groups and interviews may be conducted on a variety of topics, either as a standalone study or as a complement to a quantitative study as a part of a larger project. Formal or informal qualitative surveys may be conducted by the Federal Reserve and any outside partners collaborating with the Federal Reserve. They also may be conducted through a private contractor, which would be chosen in a competitive bidding process or other acceptable negotiated process. The research instruments may be developed by the Federal Reserve and any research partner or jointly with the contractor working on behalf of the Board. As necessary, the contractor may be responsible for testing the study procedures, following the sampling protocol established by the Federal Reserve, conducting the study as specified by the Federal Reserve, collecting and coding responses, and documenting all procedures. Data editing and analysis of the results may be conducted either by the Federal Reserve and any research partner, by the contractor, or some combination of these depending on the project.

The number of respondents to any given qualitative survey would also vary depending on the purpose of the survey and the number of respondents needed to provide a range of viewpoints. FR 3073 would enable the Federal Reserve to conduct up eight qualitative surveys each year with about 50 respondents per survey. For example, a qualitative survey could include several focus groups on a particular topic for which data needs have arisen.

The stakeholder surveys would be used to gather quantitative and qualitative information directly from stakeholders (stakeholder surveys). Stakeholders may include, for example, such organizations as community groups, community development organizations, non-profit service providers, faith-based service organizations, public sector agencies, small business owners, health care organizations, food banks, K-12 public and private schools, community colleges community development financial institutions, credit unions, banks, and other financial institutions and companies offering financial products and services. Before initiating a new survey, the Federal Reserve would determine if the information to be collected is available by other means or sources within the Federal Reserve System to avoid imposing additional burden on stakeholders.

Quantitative surveys would initially be collected in partnership with an intermediary working with community-based nonprofits to gather responses from their affiliates and grantees on a voluntary basis. Quarterly invitations to complete the survey would be emailed to stakeholders. The surveys would be administered through a web-based platform and capture trends (information over time) as well as geographical dispersion (representative coverage of all 12 Reserve Bank districts). The Federal Reserve would continue to explore other avenues for collecting data from community stakeholders, including building a national stakeholder sampling frame.

The survey questions would include current and emerging community economic issues including job availability, access to affordable rental housing, access to credit, and non-profit organizational capacity to meet community demands for services. Some topics would be covered each quarter, while others may be included less frequently. The Federal Reserve anticipates fielding up to eight quantitative stakeholder surveys each year, although surveys may not be conducted that frequently.

As with the consumer surveys described above, formal or informal qualitative surveys with stakeholders would be conducted by the Federal Reserve and any outside partners collaborating with the Board. Such surveys may also be conducted through a private contractor. Topics for qualitative surveys may vary and may include new issues of concern for stakeholders or communities, or exploring an ongoing area of focus in more depth. Such methods could also be used for testing and developing the wording of survey questions, and complementing a quantitative survey in a mixed method research design.

The number of respondents to any given qualitative stakeholder survey would vary depending on the purpose of the survey and the number of respondents needed to provide a range of viewpoints. FR 3073 would enable the Federal Reserve to conduct up to eight qualitative surveys each year with about 50 respondents per survey. For example, a qualitative survey could include several focus groups with different types of stakeholders or stakeholders from different areas of the country.

The frequency and content of the questions may change depending on economic conditions, regulatory, or legislative developments, as well as changes in technology, business practices, and other factors affecting consumers, stakeholders, and communities.

Board of Governors of the Federal Reserve System, December 19, 2013.
Robert deV. Frierson,
Secretary of the Board.

[FR Doc. 2013-30641 Filed 12-23-13; 8:45 am]

BILLING CODE 6210-01-P